DEPARTMENT OF TRANSPORTATION

Office of the Secretary

Notice of Applications for Certificates of Public Convenience and Necessity and Foreign Air Carrier Permits Filed Under Subpart B (Formerly Subpart Q) During the Week Ending August 26, 2005

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22261 and OST-2005-22228.

Date Filed: August 26, 2005.

Due Date for Answers, Conforming Applications, or Motion to Modify Scope:

Description: Application of American Eagle Airlines, Inc. and Executive Airlines, Inc. d/b/a American Eagle, in response to the Department's notice of August 23, 2005 on streamlining regulatory procedures for licensing U.S. and foreign air carriers, requesting a certificate of public convenience and necessity authorizing scheduled foreign air transportation of persons, property to correspond to U.S.-Mexico routes for which American Eagle Airlines, Inc. holds authority by exemption.

Renee V. Wright,
Program Manager, Docket Operations, Federal Register Liaison.

[FR Doc. 05-18331 Filed 9-14-05; 8:45 am]

BILLING CODE 4910-62-P